DEPARTMENT OF VETERANS AFFAIRS

Advisory Committee on Prosthetics and Special-Disabilities Programs, Meeting

The Department of Veterans Affairs (VA) gives notice under Public Law 92-463 that a meeting of the Advisory Committee on Prosthetics and Special-Disabilities Programs (Committee) will be held Monday and Tuesday, September 18-19, 2000, at VA Headquarters, Room 430, 810 Vermont Avenue, NW., Washington, DC. The September 18 session will convene at 8 a.m. and adjourn at 4 p.m. and the September 19 session will convene at 8 a.m. and adjourn at 12 noon. The purpose of the Committee is to advise the Department on its prosthetic programs designed to provide state-of-the-art prosthetics and the associated rehabilitation research, development, and evaluation of such technology. The Committee also advises the Department on special disability programs which are defined as any program administered by the Secretary to serve veterans with spinal cord injury, blindness or vision impairment, loss of or loss of use of extremities, deafness or hearing impairment, or other serious incapacities in terms of daily life functions.

On the morning of September 18, the Committee will receive briefings by the National Program Directors of the Special-Disabilities Programs regarding the status of their activities over the last three months. In the afternoon, a briefing concerning functional outcomes for Blind Rehabilitation will be presented. On the morning of September 19, the Committee will receive a briefing by a Department of Defense representative on the referral process of traumatic brain-injured patients to VA and the reimbursement rate impact. The Committee will have the opportunity to ask questions following this briefing.

The meeting is open to the public. For those wishing to attend, contact Kathy Pessagno, Veterans Health Administration (113), phone (202) 273-8512, Department of Veterans Affairs, 810 Vermont Avenue, NW., Washington, DC 20420, prior to September 15, 2000.

Dated: August 22, 2000.
Marvin Eason,
Committee Management Officer.

[FR Doc. 00-22048 Filed 8-28-00; 8:45 am]

BILLING CODE 8320-01-M